DEPARTMENT OF EDUCATION

Submission for OMB Review; Comment Request

AGENCY: Department of Education.

ACTION: Correction notice.

SUMMARY: On November 20, 2009, the Department of Education published a comment period notice in the Federal Register (Page 60247, Column 3) seeking public comment for an information collection entitled, “Guidance on Title I, Part A”. The notice is hereby corrected, stating that requests for copies of the information collection submission for OMB review may be accessed from http://edicsweb.ed.gov, by selecting the “Browse Pending Collections” link and clicking on link number 4171. The IC Clearance Official, Regulatory Information Management Services, Office of Management, hereby issues a correction notice as required by the Paperwork Reduction Act of 1995.

Dated: November 24, 2009.
Angela C. Arrington,
IC Clearance Official, Regulatory Information Management Services, Office of Management.

[FR Doc. E9-28533 Filed 11-27-09; 8:45 am]

BILLING CODE P